DEPARTMENT OF THE TREASURY

Submission for OMB Review; Comment Request

AGENCY: Department of the Treasury.

ACTION: Notice.

The Department of the Treasury will submit the following information collection requests to the Office of Management and Budget (OMB) for review and clearance in accordance with the Paperwork Reduction Act of 1995, Public Law 104-13, on or after the date of publication of this notice.

DATES: Comments should be received on or before August 31, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by email at PRA@treasury.gov or the entire information collection request may be found at www.reginfo.gov.

SUPPLEMENTARY INFORMATION:

Internal Revenue Service (IRS)

OMB Number: 1545-0430.

Type of Review: Extension without change of a previously approved collection.

Title: Request for Prompt Assessment Under Internal Revenue Code Section 6501(d).

Form: 4810.

Abstract: Form 4810 is used to request a prompt assessment under IRC Section 6501(d). IRS uses this form to locate the return to expedite processing of the taxpayer's request.

Affected Public: Private Sector: Businesses or other for-profits.

Estimated Annual Burden Hours: 24,800.

OMB Number: 1545-1018.

Type of Review: Extension without change of a previously approved collection.

Title: FI-27-89 (Temporary and Final) Real Estate Mortgage Investment Conduits; Reporting Requirements and Other Administrative Matters; FI-61-91 (Final) Allocation of Allocable Investment.

Abstract: The regulations prescribe the manner in which an entity elects to be taxed as a real estate mortgage investment conduit (REMIC) and the filing requirements for REMICs and certain brokers.

Affected Public: Private Sector: Businesses or other for-profits.

Estimated Annual Burden Hours: 978.

OMB Number: 1545-1231.

Type of Review: Extension without change of a previously approved collection.

Title: TD 9436—Tax Return Preparer Penalties Under Sections 6694 and 6695.

Abstract: This information is necessary to make the record of the name, taxpayer identification number, and principal place of work of each tax return preparer, make each return or claim for refund prepared available for inspection by the Commissioner of Internal Revenue, and to document that the tax return preparer advised the taxpayer of the penalty standards applicable to the taxpayer in order for the tax return preparer to avoid penalties under section 6694. These regulations implements amendments to the tax return preparer penalties under sections 6694 and 6695 of the Internal Revenue Code and related provisions under sections 6060, 6107, 6109, 6696, and 7701(a)(36) reflecting amendments to the Code made by section 8246 of the Small Business and Work Opportunity Tax Act of 2007 and section 506 of the Tax Extenders and Alternative Minimum Tax Relief Act of 2008.

Affected Public: Private Sector: Businesses or other for-profits.

Estimated Annual Burden Hours: 10,679,320.

OMB Number: 1545-1290.

Type of Review: Extension without change of a previously approved collection.

Title: TD 8513—Bad Debt Reserves of Banks.

Abstract: Section 585(c) of the Internal Revenue Code requires large banks to change from the reserve method of accounting to the specific charge off method of accounting for bad debts. The information required by section 1.585-8 of the regulations identifies any election made or revoked by the taxpayer in accordance with section 585(c).

Affected Public: Private Sector: Businesses or other for-profits.

Estimated Annual Burden Hours: 625.

OMB Number: 1545-1725.

Type of Review: Extension without change of a previously approved collection.

Title: REG-146097-09 (Final) Guidance on Reporting Interest Paid to Nonresident Aliens.

Abstract: This document contains final regulations that provide guidance on the reporting requirements for interest on deposits maintained at the U.S. office of certain financial institutions and paid to nonresident alien individuals. These regulations affect persons making payments of interest with respect to such a deposit.

Affected Public: Private Sector: Businesses or other for-profits.

Estimated Annual Burden Hours: 500.

OMB Number: 1545-1959.

Type of Review: Revision of a previously approved collection.

Title: Contributions of Motor Vehicles, Boats, and Airplanes.

Form: 1098-C.

Abstract: Section 884 of the American Jobs Creation Act of 1004 (Pub. L. 108-357) added paragraph 12 to section 170(f) for contributions of used motor vehicles, boats, and airplanes. Section 170(f)(12) requires that a donee organization provide an acknowledgement to the donor of this type of property and is required to file the same information to the Internal Revenue Service. Form 1098-C may be used as the acknowledgement and it, or an acceptable substitute, must be filed with the IRS.

Affected Public: Private Sector: Not-for-profit institutions.

Estimated Annual Burden Hours: 46,810.

OMB Number: 1545-1992.

Type of Review: Revision of a previously approved collection.

Title: TD 9324 (Final)—Designated Roth Contributions Under Section 402A (REG-146459-05).

Abstract: The final regulations set forth the rules for taxation of distributions from Designated Roth Accounts which are a part of a 401(k) plan or 403(b) plan.

Affected Public: Private Sector: Businesses or other for-profits.

Estimated Annual Burden Hours: 828,000.

OMB Number: 1545-2120.

Type of Review: Extension without change of a previously approved collection.

Title: Revenue Procedures 2008-60, 2012-27: Election Involving the Repeal of the Bonding Requirement under § 42(j)(6).

Abstract: This revenue procedure affects taxpayers who are maintaining a surety bond or a Treasury Direct Account (TDA) to satisfy the low-income housing tax credit recapture exception in § 42(j)(6) of the Internal Revenue Code, as in effect on or before July 30, 2008. This revenue procedure provides the procedures for taxpayers to follow when making the election under section 3004(i)(2)(B)(ii) of the Housing Assistance Tax Act of 2008 (Pub. L. 110-289) to no longer maintain a surety bond or a TDA to avoid recapture.

Affected Public: Individuals or Households.

Estimated Annual Burden Hours: 7,810.

OMB Number: 1545-2144.

Type of Review: Extension without change of a previously approved collection.

Title: Validating Your TIN and Reasonable Cause.

Form: 13997.

Abstract: Under the provisions of Internal Revenue Code Section (IRC § ) 6039E, Information Concerning Resident Status, individuals are required to provide certain information (see IRC § 6039E(b)) with their application for a U.S. passport or with their application for permanent U.S. residence. This form is an attachment to Letter 4318 to inform the individual about the IRC provisions, the penalty, and to request them to complete this form and return it to the IRS.

Affected Public: Individuals or Households.

Estimated Annual Burden Hours: 2,000.

OMB Number: 1545-2221.

Type of Review: Extension without change of a previously approved collection.

Title: Form 1098-MA—Mortgage Assistance Payments.

Form: 13997.

Abstract: Information is needed to identify taxpayers who may not be taking a correct mortgage interest deduction, since mortgage servicers processing mortgage payments may not be able to segregate payments received from government funds versus payments made by individual mortgagees.

Affected Public: State, Local, and Tribal Governments.

Estimated Annual Burden Hours: 170,000.

Dated: July 27, 2015.
Dawn D. Wolfgang,
Treasury PRA Clearance Officer.

[FR Doc. 2015-18703 Filed 7-29-15; 8:45 am]

BILLING CODE 4830-01-P